DEPARTMENT OF HEALTH AND HUMAN SERVICES

Centers for Disease Control and Prevention

[60Day-05AQ]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call (404) 371-5978 or send comments to Sandi Gambescia, CDC Assistant Reports Clearance Officer, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Performance Measurement Tracking Project for Grantee Sites in Cooperative Agreement with the Division of Oral Health—New—National Center for Chronic Disease Prevention and Health Promotion (NCCDPHP), Centers for Disease Control and Prevention (CDC).

Background and brief description: In 2000, the Surgeon General published the first ever report on oral health in America to alert Americans to the full meaning of oral health and its importance to general health and wellbeing. Included in the framework for action was the charge to build an effective oral health infrastructure that meets the oral health needs of all Americans and integrates oral health effectively into overall health planning. In response, CDC awarded funds for cooperative agreements to 13 demonstration sites for the planning and implementation of oral health capacity infrastructure building and demonstration delivery programs.

Building infrastructure enables the demonstration sites to develop the capacity to achieve Healthy People 2010 objectives and reach many more Americans than a single local program could reach by sustaining health gains beyond the funding cycle. Infrastructure development encompasses many activities, each of which can be accomplished in a myriad of methods by the grantees. To summarize and track vital development information across grantee sites, a performance measurement tracking project must be established for the demonstration sites. Obtaining uniform data on performance will allow the construction of summary reports to assist future sites and not-yet-funded oral health infrastructure development programs. Performance measurement and tracking for this project would describe the implementation of each site's infrastructure model in relation to environmental context and state characteristics. The results would provide evidence for the essential implementation strategies for effective infrastructure development as defined by the consensus-based Association of State and Territorial Dental Directors' (ASTDD) model. The results would be used to structure flexible guidelines for infrastructure development and identify high-priority activities enabling additional sites to efficiently plan and implement cost-effective oral health improvement activities.

Additionally, this project will assist in the development of objectives and indicators of sustainability resulting in the ability of these demonstration programs to meet the needs of their constituents beyond the seed-funding period. The objectives of the Performance Measurement Tracking project are to:

1. Evaluate infrastructure development activity characteristics among the funded sites.

2. Synthesize progress and promote cross-collaboration among grantees.

3. Make progress indicators available to non-funded sites.

4. Promote positive infrastructure growth among funded and non-funded sites.

These objectives will be attained through a family of uniform evaluation reporting documents designed to evaluate demographic, extent, and culture climate of infrastructure development activities. One respondent from each site will submit the activity-tracking document semiannually. Non-funded sites actively involved in infrastructure development are welcome to submit tracking information to further provide information for all sites.

Annualized Burden Table:

Respondents | Number of respondents per year | Number of responses per respondent | Avg. burden per response (in hours) | Total annual burden (in hours)
Demonstration Site Grantees | 13 | 2 | 45/60 | 20
Total |  |  |  | 20

Dated: December 3, 2004.
Alvin Hall,
Director, Management Analysis and Services Office, Centers for Disease Control and Prevention.

[FR Doc. 04-27189 Filed 12-10-04; 8:45 am]

BILLING CODE 4163-18-P